DEPARTMENT OF HOUSING AND URBAN DEVELOPMENT

[Docket No. FR-5041-N-05]

Notice of Proposed Information Collection: Comment Request; Multifamily Project Applications and Construction Prior to Initial Endorsement

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 1, 2006.

ADDRESSES: Interested persons are invited to submit comments regarding this proposal. Comments should refer to the proposal by name and/or OMB Control Number (2502-0029) and should be sent to: Lillian Deitzer, Reports Management Officer, Department of Housing and Urban Development, 451 7th Street, SW., L'Enfant Plaza Building, Room 8003, Washington, DC 20410 or Lillian_Deitzer@hud.gov.

FOR FURTHER INFORMATION CONTACT: Joe E. Malloy, Acting Director, Office of Multifamily Development, Department of Housing and Urban Development, 451 7th Street SW., Washington, DC 20410, telephone (202) 708-1142 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Multifamily Project Applications and Construction Prior to Initial Endorsement.

OMB Control Number, if applicable: 2502-0029.

Description of the need for the information and proposed use: This information collection is the application for HUD/FHA multifamily mortgage insurance. The information from sponsors and general contractors, submitted by a HUD-approved mortgagee, is needed to determine project feasibility, mortgagor/contractor acceptability, and construction costs. In addition, documentation from operators/managers of health care facilities is also required as part of the application for firm commitment for mortgage insurance. HUD analyzes financial data, cost data, drawings, specifications and other documentation to determine whether the proposed project meets program requirements for mortgage insurance. Project owners/sponsors may apply to commence construction prior to HUD's initial endorsement of the loan.

Agency form numbers, if applicable: HUD-92013, HUD-92013-SUPP, HUD-92013-NHICF, HUD-92013-E, HUD-92264, HUD-92264-A, HUD-92264-HCF, HUD-92264-T, HUD-92273, HUD-92274, HUD-92326, HUD-92329, HUD-92331, HUD-92485, FM-1006, FHA-2415, and FHA-2447.

Estimation of the total numbers of hours needed to prepare the information collection including number of respondents, frequency of response, and hours of response: The estimated total number of burden hours needed to prepare the information collection is 438,307. The number of respondents is 1,284, generating approximately 19,531 annual responses; the frequency of response is on occasion, required with each project application and annually for health care facilities. The estimated time to prepare the responses varies from 30 minutes to 114 hours.

Status of the proposed information collection: Revision of a currently approved collection, to incorporate information collected under OMB control number 2502-0331.

Authority: The Paperwork Reduction Act of 1995, 44 U.S.C., Chapter 35, as amended.

Dated: February 23, 2006.
Frank L. Davis,
General Deputy Assistant Secretary for Housing—Deputy Federal Housing Commissioner.

[FR Doc. E6-2807 Filed 2-28-06; 8:45 am]

BILLING CODE 4210-67-P